DEPARTMENT OF LABOR

Wage and Hour Division

Agency Information Collection Activities: Comment Request; Information Collections: Application for a Farm Labor Contractor or Farm Labor Contractor Employee Certificate of Registration

AGENCY: Wage and Hour Division, Department of Labor.

ACTION: Notice.

SUMMARY: The Department of Labor (Department), is soliciting comments concerning an extension of the information collection request (ICR) titled “Application for a Farm Labor Contractor or Farm Labor Contractor Employee Certificate of Registration.” This comment request is part of continuing Departmental efforts to reduce paperwork and respondent burden in accordance with the Paperwork Reduction Act of 1995. This program helps to ensure that requested data can be provided in the desired format, reporting burden (time and financial resources) is minimized, collection instruments are clearly understood, and the impact of collection requirements on respondents can be properly assessed. A copy of the proposed information collection request can be obtained by contacting the office listed below in the FOR FURTHER INFORMATION CONTACT section of this Notice.

DATES: Written comments must be submitted to the office listed in the addresses section below on or before April 15, 2024.

ADDRESSES: You may submit comments, identified by Control Number 1235-0016, by either one of the following methods: Email: WHDPRAComments@dol.gov. Mail, Hand Delivery, Courier: Division of Regulations, Legislation, and Interpretation, Wage and Hour Division, U.S. Department of Labor, Room S-3502, 200 Constitution Avenue NW, Washington, DC 20210.

Instructions: Please submit one copy of your comments by only one method. All submissions received must include the agency name and Control Number identified above for this information collection. Commenters are encouraged to transmit their comments electronically via email or to submit them by mail early. Comments, including any personal information provided, become a matter of public record. They will also be summarized and/or included in the request for Office of Management and Budget (OMB) approval of the information collection request.

FOR FURTHER INFORMATION CONTACT: Robert Waterman, Division of Regulations, Legislation, and Interpretation, Wage and Hour Division, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background: The Migrant and Seasonal Agricultural Worker Protection Act (MSPA) provides that no person will engage in any farm labor contracting activity for any money or valuable consideration paid or promised to be paid, unless such person has a certificate of registration from the Secretary of Labor specifying which farm labor contracting activities such person is authorized to perform. See 29 U.S.C. 1802(7), 1811(a); 29 CFR 500.1(c), 500.20(i), 500.40. MSPA also provides that a Farm Labor Contractor (FLC) will not hire, employ, or use any individual to perform farm labor contracting activities unless such individual has a certificate of registration as a FLC or a certificate of registration as a Farm Labor Contractor Employee (FLCE) of the FLC that authorizes the activity for which such individual is hired, employed, or used. 29 U.S.C. 1811(b); 29 CFR 500.1(c). Form WH-530 provides the means for a FLC applicant to obtain a certificate of registration. Form WH-535 provides the means for a FLCE applicant to obtain a certificate of registration. Form WH-540 allows registered FLCs and FLCEs to amend a currently existing certificate.

MSPA section 401 (29 U.S.C. 1841) requires all FLCs, agricultural employers, and agricultural associations, subject to certain exceptions, to ensure that any vehicle they use or cause to be used to transport or drive any migrant or seasonal agricultural worker conforms to safety and health standards prescribed by the Secretary of Labor under MSPA and with other applicable federal and state safety standards. These MSPA safety standards address the vehicle, the driver, and insurance. The Wage and Hour Division (WHD) has created forms WH-514, WH-514a, and WH-515, which allow FLC applicants to verify to WHD that the vehicles used to transport migrant/seasonal agricultural workers meet the MSPA vehicle safety standards and that anyone who drives such workers meets the Act's minimum physical requirements. WHD uses the information collected on the forms in deciding whether to authorize the FLC/FLCE applicant to transport/drive any migrant/seasonal agricultural worker(s) or to cause such transportation. Form WH-514 is used to verify that any vehicle used or caused to be used to transport any migrant/seasonal agricultural worker(s) meets the Department of Transportation (DOT) safety standards. When the adopted DOT rules do not apply, FLC applicants seeking authorization to transport any migrant/seasonal agricultural workers use form WH-514a to verify that the vehicles meet the DOL safety standards. The form is completed when the applicant lists the identifying vehicle information and an independent mechanic attests that the vehicle meets the required safety standards. Form WH-515 is a doctor's certificate used to document that a motor vehicle driver or operator meets the minimum DOT physical requirements that the Department has adopted.

The Department proposes a substantive change with the proposed debut of the FLCE portal, which will allow respondents to fill out WH-530, WH-535, and WH-540 online and submit electronically. Respondents will be able to upload WH-514 and WH-514a to the portal as well. The Department also proposes minor revisions to forms WH-515, WH-530, WH-535, and WH-540. These revisions clarify the instructions and ensure that applicants provide a contact email address. There are no revisions to the WH-514 and WH-514a forms.

II. Review Focus: The Department is particularly interested in comments that:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions: The Department seeks approval to revise this information collection to ensure effective administration of the requirements governing FLCs and FLCEs under MSPA.

Type of Review: Revision.

Agency: Wage and Hour Division.

Titles: Application for a Farm Labor Contractor or a Farm Labor Contractor Employee Certificate of Registration.

OMB Control Number: 1235-0016.

Agency Numbers: Forms WH-514, WH-514a, WH-515, WH-530, WH-540, WH-535.

Affected Public Businesses or other for-profits, Farms.

Total Estimated Respondents: 35,224.

Total Annual responses:

Estimated Total Burden Hours: 58,570.

Estimated Time per Response: 5 minutes for the vehicle mechanical inspection reports (WH-514 or WH-514a) and 26 minutes for MSPA Doctor's Certification (WH-515) and 30 minutes for the Farm Labor Contractor and the FLCE Applications (WH-530 and WH-535) and 30 minutes for the Application Amendment (WH-540).

Frequency: On Occasion, but no more often than annual.

Total Burden Cost (capital/startup): $0.

Total Burden Cost (operating/maintenance): $1,486,984.37.

Dated: February 8, 2024.
Amy Hunter,
Director, Division of Regulations, Legislation, & Interpretation.

[FR Doc. 2024-03076 Filed 2-13-24; 8:45 am]

BILLING CODE 4510-27-P